DEPARTMENT OF ENERGY

Office of Nuclear Energy, Science and Technology; Small Modular Nuclear Power Units

AGENCY: Department of Energy (DOE).

ACTION: Notice of public interest.

SUMMARY: The United States Department of Energy plans to undertake a study to determine the feasibility of and issues associated with the deployment of small modular nuclear reactors for preparation of a report to Congress by May 2001. This report is being prepared as directed by the Senate Committee on Appropriations (S.R. Report no. 106-395, at 107(2000)) on the Energy and Water Development Appropriations Act, 2001 (Public Law 106-377). The Committee report specifically states the following:

The committee is aware of recent improvements in reactor design that make feasible small modular reactors with attractive characteristics for remote communities that otherwise must rely on shipments of relatively expensive and sometimes environmentally undesirable fuels for their electric power. To be acceptable, such a reactor would have to be inherently safe, be relatively cost effective, have intrinsic design features which would deter sabotage or efforts to divert nuclear materials, have infrequent refuelings, and be largely factory constructed and deliverable to remote sites. The Committee recommendation provides $1,000,000 for the Department to undertake a study to determine the feasibility of and issues associated with the deployment of such small reactors and provide a report to Congress by May 2001.

This notice hereby announces the Department's interest in receiving information from the nuclear technology community on small modular power unit concepts that should be considered in the study. Such concepts must generally meet the criteria previously mentioned and may be entirely, or almost entirely, factory fabricated for transport to remote communities such as islands and should be no larger than 50 megawatts-electric (MWe).

DATES: Concept information must be submitted by 4:30 p.m., edt, March 15, 2001, to be accepted for review and to permit timely consideration for inclusion within the report.

ADDRESSES: All concept information should be forwarded to Argonne National Laboratory by U.S. Postal Service Express Mail or any commercial mail delivery service, or hand carried by the applicant to: Roald Wiegland, “Small Modular Reactor Study,” Argonne National Laboratory, 9700 South Cass Avenue, Building 208, Argonne, Illinois 60439-4842. Individuals who wish to submit concept information electronically should forward their information to smr@anl.gov.

FOR FURTHER INFORMATION CONTACT: Kenneth Chuck Wade, Nuclear Industry Analysis, NE-80, Office of Nuclear Energy, Science and Technology, U.S. Department of Energy, Germantown, Maryland 20874-1290, (301) 903-1031.

SUPPLEMENTARY INFORMATION: The Department of Energy is interested in receiving information on small modular nuclear power unit concepts that should be considered in a study to determine the feasibility of this technology. Concepts that will be considered in this study must generally meet the following criteria: inherent safety, relative cost effectiveness, intrinsic design features which would deter sabotage or efforts to divert nuclear materials; and infrequent refueling. These design concepts may be entirely, or almost entirely, factory fabricated for transport to remote communities such as islands and should be no larger than 50 megawatts-electric (MWe). All information in response to this request should include detailed plans in the following areas:

Licensing Prospects

Concept participants must identify any unique regulatory issues associated with siting and licensing small modular power units. The information on issues identified should include suggested modifications to existing Nuclear Regulatory Commission requirements, potential licensing barriers to be resolved, basis for safety analysis requirements, the need for reactor containment, and methods for implementing risk-based analysis techniques. These regulatory initiatives should be limited to reactor concepts that are useful in remote areas.

Concept Technology

Technical information should include an overall description of the concept and detailed information about major elements of the concept, including dimensions and capacity. Information on reactor fuel, fuel characteristics, fuel fabrication experience and irradiation history for the particular fuel type is desirable. Any novel features of the reactor concept, either for the reactor core or other components of the system, should be clearly identified, especially those related to safety and non-proliferation. Any relationship or similarity to other existing or planned reactors should also be stated. Features of the concept that would facilitate both factory fabrication and the ability to transport units to more remote areas should also be identified.

Economic Viability

The elements of cost and performance parameters that are desired for this study are: capital; operation and maintenance; fuel; decommissioning costs; thermal power; thermal efficiency; projected capacity factor; construction time; and financial parameters. Since design concept may still be in a preliminary stage, the Department would like for concept designers to submit any available information regarding the projected cost and performance values.

Each proposed design concept participant should address the issues mentioned above in as much detail as possible to enable fair and accurate statements regarding its prospects for future deployment. The Department recognizes that some of the information requested may not be readily available and will accept whatever information is available. Please note that proprietary information received in response to this notice will be kept confidential.

The report resulting from this study will not make any recommendation regarding a particular concept technology, but only assess the practicality of deploying small modular nuclear power units in remote locations within the U.S.

Issued in Washington, DC on February 16, 2001.
John M. Stamos,
Acting Associate Director for Nuclear Industry Analysis, NE-80, Office of Nuclear Energy, Science and Technology.

[FR Doc. 01-4733 Filed 2-26-01; 8:45 am]

BILLING CODE 6450-01-P